DEPARTMENT OF EDUCATION

National Advisory Council on Indian Education (NACIE); Meeting

AGENCY: U. S. Department of Education.

ACTION: Announcement of an open meeting.

SUMMARY: This notice sets forth the agenda for an upcoming virtual, public meeting of the National Advisory Council on Indian Education (NACIE). Notice of the meeting is required by section 10(a)(2) of the Federal Advisory Committee Act (FACA) and is intended to notify members of the public who may be interested in participating online and/or by teleconference. This notice is being posted less than 15 days due to the need to secure funding and coordinate technology services for a virtual meeting.

DATES: The virtual NACIE meeting will be held online and by teleconference on July 26, 2019—12:00 p.m.-2:00 p.m. (EST).

ADDRESSES: There is no physical address for the virtual meeting, as it will be conducted online with teleconference capabilities. WebEx hyperlink: https://doed.webex.com/NACIE.July.26.2019.

To copy and paste hyperlink into browser: https://doed.webex.com/doed/j.php?MTID=maeff983434fd5eeb1edc055eaae0bdf3.

WebEx Access Code: 966 632 673.

WebEx Meeting Password: OIEWebex!

To join by telephone: Call-in toll-free number 1-888-858-2144; Call-in number 1-646-746-3008. Access Code for either telephone number:942 906 1.

FOR FURTHER INFORMATION CONTACT: Angeline Boulley, Director of the Office of Indian Education (OIE)/Designated Federal Official, Office of Elementary and Secondary Education (OESE), U.S. Department of Education, 400 Maryland Avenue SW, Washington, DC 20202. Telephone: 202-453-7042, Email: Angeline.Boulley@ed.gov.

SUPPLEMENTARY INFORMATION: Statutory Authority and Function: NACIE is authorized by § 6141 of the Elementary and Secondary Education Act of 1965. NACIE is established within the U.S. Department of Education to advise the Secretary of Education and the Secretary of Interior on the funding and administration (including the development of regulations, and administrative policies and practices) of any program over which the Secretary of Education has jurisdiction and includes Indian children or adults as participants or that may benefit Indian children or adults, including any program established under Title VII, Part A of the Elementary and Secondary Education Act. In addition, NACIE advises the Secretary of the Interior regarding these same Department of Education programs, and also, in accordance with section 5(a) of Executive Order 13592, advises the White House Initiative on American Indian and Alaskan Native Education. NACIE submits to the Congress each year a report on the activities of the Committee and include recommendations that are considered appropriate for the improvement of Federal education programs that include Indian children or adults as participants or that may benefit Indian children or adults, and recommendations concerning the funding of any such program.

Meeting Agenda: The purpose of the meeting is to convene NACIE to conduct the following business:

(1) Welcome and Introductions; (2) Review and Provide Feedback on NACIE 2019 Annual Report to Congress; (3) Approve NACIE 2019 Annual Report to Congress; (4) Review NACIE Meeting Calendar for 2019-2020, and; (5) Accept Public Comments.

All stakeholders and participants from the public must RSVP for the meeting to ensure they receive notice of any updated information. Please RSVP via email to Angeline.Boulley@ed.gov no later than July 25, 2019. If you would like to provide public comment, please submit your request no later than July 25, 2019 to Angeline.Boulley@ed.gov. Speakers will have up to five (5) minutes to provide a comment. Members of the public interested in submitting written comments may do so via email at Angeline.Boulley@ed.gov. Comments should pertain to the work of NACIE and/or the Office of Indian Education.

Reasonable Accommodations: The virtual meeting site is accessible to individuals with disabilities. If you will need an auxiliary aid or service to participate in the meeting (e.g., interpreting service, assistive listening device, or materials in an alternate format), notify Brandon Dent on 202-453-6450 or at brandon.dent@ed.gov no later than July 22, 2019. Although we will attempt to meet a request received after the request due date, we may not be able to make available the requested auxiliary aid or service because of insufficient time to make arrangements.

Access to Records of the Meeting: The Department will post the official report of the meeting on the OESE website at: http://www2.ed.gov/about/offices/list/oese/index.html?src=oc 21 days after the meeting. Pursuant to the FACA, the public may also inspect NACIE materials at the Office of Indian Education, United States Department of Education, 400 Maryland Avenue SW, Washington, DC 20202, Monday-Friday, 8:30 a.m. to 5:00 p.m. Eastern Time or by emailing Angeline.Boulley@ed.gov or by calling Erica Outlaw at (202) 358-3144 to schedule an appointment.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: § 6141 of the Elementary and Secondary Education Act of 1965 (ESEA) as amended by the Every Student Succeeds Act (ESSA) (20 U.S.C. 7471).

Frank Brogan,
Assistant Secretary, Office of Elementary and Secondary Education.

[FR Doc. 2019-15547 Filed 7-22-19; 8:45 am]

BILLING CODE P